ENVIRONMENTAL PROTECTION AGENCY

40 CFR Part 211

[EPA-HQ-OAR-2003-0024; FRL-8947-6]

RIN 2060-A025

Product Noise Labeling; Hearing Protection Devices

AGENCY: Environmental Protection Agency (EPA).

ACTION: Extension of comment period and rescheduled public hearing.

SUMMARY: The Environmental Protection Agency (EPA) is announcing an extension of the public comment period for the proposed rule “Product Noise Labeling—Hearing Protection Devices” (the proposed rule is hereinafter referred to as “HPD Rule”). EPA published a notice of proposed rulemaking on August 5, 2009, in the Federal Register (74 FR 39150) which included a request for comments and an offer to hold a public hearing if requested. The public comment period was to end on September 4, 2009, (30 days after publication in the Federal Register) and the public hearing, if requested, was to take place on August 25, 2009. The purpose of this document is to extend the public comment period an additional 60 days until November 4, 2009, and to schedule a public hearing on this proposed rule will be held on October 7, 2009. This extension of the comment period and the holding of a public hearing are being provided to allow the public additional time to review the rule and provide EPA with comments on the proposed rule.

DATES: Comments. Written comments must be received on or before November 4, 2009.

Public Hearing. The public hearing will be held on Wednesday, October 7, 2009, from 9 a.m. to 5 p.m. Eastern Standard time. The meeting is scheduled for one day and will take place at EPA Headquarters, Room 1153—East building, 1301 Constitution Avenue, NW., Washington, DC 20460. Anyone that would like to speak at the hearing must notify the EPA by September 30, 2009, via the docket.

Persons wishing to make a formal presentation for the record must provide a hard copy of their presentation to the docket not later than September 30, 2009. Scheduling of all presentations will be based on the order in which their request is received.

ADDRESSES: Submit your comments, identified by docket ID number EPA-HQ-OAR-2003-0024, by one of the following methods:

• http://www.regulations.gov: Follow the online instructions for submitting comments.

• E-mail: a-and-r-docket@epa.gov.

• Fax: (202) 566-1741.

• Mail: Air and Radiation Docket and Information Center, EPA Labeling Regulation, Docket Number EPA-HQ-OAR-2003-0024, Environmental Protection Agency, EPA Docket Center, Mailcode 28221T, 1200 Pennsylvania Ave., NW., Washington, DC 20460.

• Hand Delivery: EPA Docket Center, Public Reading Room, EPA West, Room 3334, 1301 Constitution Ave., NW., Washington, DC 20460. Such deliveries are only accepted during the Docket's normal hours of operation (Monday through Friday, from 8:30 a.m. to 4:30 p.m.), excluding legal holidays and special arrangement should be made for deliveries of boxed information. The telephone number for the Public Reading Room is (202) 566-1744, and the telephone number for the Air Docket is (202) 566-1742.

• Instructions: Direct your comments to Docket ID Number EPA-HQ-OAR-2003-0024. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name or other content information in the body of your comment and with any disk or CD-ROM you submit. If EPA cannot read your comment due to technical difficulties and cannot contact you for clarification, EPA may not be able to consider your comment. Electronic files should avoid the use of special characters or any form of encryption, and be free of any defect or viruses. For additional information about EPA's public docket, visit the EPA Docket Center homepage at http://www.epa.gov/dockets.

How Can I Access the Docket?

All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Air and Radiation Docket and Information Center, EPA/DC, EPA West, Room 3334, 1301 Constitution Ave., NW., Washington, DC. The Public Reading Room is open from 8:30 a.m. to 4:30 p.m., Monday through Friday, excluding legal holidays. The telephone number for the Public Reading Room is (202) 566-1744, and the telephone number for the Air Docket is (202) 566-1742.

How Can I Get Copies of This Document, the Proposed Rule, and Other Related Information?

The EPA has established a docket for this action under Docket ID No. EPA-HQ-OAR-2003-0024.

FOR FURTHER INFORMATION CONTACT: Ms. Catrice Jefferson, U.S. Environmental Protection Agency, Office of Air and Radiation, Mail Code 6103A, 1200 Pennsylvania Avenue, NW., Washington, DC 20460. Telephone Number—(202) 564-1668; Fax Number—(202) 564-1554; and e-mail Address—jefferson.catrice@epa.gov.

SUPPLEMENTARY INFORMATION:

Extension of Comment Period: EPA received requests for an extension of the public comment period from various parties ranging from 60 to 90 days. After considering all of these comments, EPA has determined that an extension of an additional 60 days is an appropriate amount of time to provide the public for submission of meaningful comments on the proposed rule. Accordingly, the public comment period for the HPD proposed rulemaking is extended until November 4, 2009. EPA does not anticipate any further extension of the comment period at this time.

Reschedule of Public Hearing: EPA received requests for a public hearing. In view of the above extension of the comment period the EPA is establishing October 7, 2009 as the date for the public hearing that was originally scheduled for August 25, 2009. EPA believes that this postponement will provide adequate time for interested parties to develop their verbal comments and presentations.

Dated: August 17, 2009.
Gina McCarthy,
Assistant Administrator, Office of Air and Radiation.

[FR Doc. E9-20172 Filed 8-20-09; 8:45 am]

BILLING CODE 6560-50-P